DEPARTMENT OF COMMERCE

National Oceanic and Atmospheric Administration

[RTID 0648-XB339]

Deepwater Horizon Oil Spill Regionwide Trustee Implementation Group Final Restoration Plan and Environmental Assessment 1: Birds, Marine Mammals, Oysters, and Sea Turtles and Finding of No Significant Impact

AGENCY: National Marine Fisheries Service (NMFS), National Oceanic and Atmospheric Administration (NOAA), Department of Commerce.

ACTION: Notice of availability.

SUMMARY: In accordance with the Oil Pollution Act of 1990 (OPA), the National Environmental Policy Act (NEPA), and a Consent Decree with BP Exploration & Production Inc. (BP), the Deepwater Horizon (DWH) Federal natural resource trustee agencies for the Regionwide Trustee Implementation Group (Regionwide TIG) prepared the Final Restoration Plan and Environmental Assessment 1: Birds, Marine Mammals, Oysters, and Sea Turtles (RP/EA), and Finding of No Significant Impact. In the RP/EA, the Regionwide TIG selected projects to help restore living coastal and marine resources injured as a result of the DWH oil spill in the Regionwide Restoration Area under the “Birds”, Marine Mammals”, “Oysters”, and “Sea Turtles” restoration types described in the Final Programmatic Damage Assessment Restoration Plan/Programmatic Environmental Impact Statement. The total cost to implement the Regionwide TIG's eleven selected projects is approximately $99.6 million.

ADDRESSES: Obtaining Documents: You may access the RP/EA from the Regionwide TIG website at: http://www.gulfspillrestoration.noaa.gov/restoration-areas/regionwide. Alternatively, you may request a CD of the RP/EA (see FOR FURTHER INFORMATION CONTACT). Copies are also available for review at the locations listed below (see SUPPLEMENTARY INFORMATION).

FOR FURTHER INFORMATION CONTACT: National Oceanic and Atmospheric Administration—Jamie Schubert, NOAA Restoration Center, (310) 427-8711, regionwide.tig@noaa.gov.

SUPPLEMENTARY INFORMATION:

Introduction

On April 20, 2010, the DWH mobile drilling unit exploded, causing a massive release of oil from the BP Exploration and Production Inc. (BP) Macondo well. The explosion and oil spill led to loss of life and extensive natural resource injuries. Oil spread from the deep ocean to surface and nearshore environments across the Gulf of Mexico, from Texas to Florida. Extensive response actions were undertaken to reduce harm to people and the environment. However, many of these response actions had collateral impacts on the environment and on natural resource services.

The DWH Federal and state natural resource trustees (DWH Trustees) conducted the natural resource damage assessment for the DWH oil spill under OPA (33 U.S.C. 2701 et seq.). Pursuant to OPA, Federal and state agencies act as trustees on behalf of the public to assess natural resource injuries and losses and to determine the actions required to compensate the public for those injuries and losses. OPA further instructs the designated trustees to develop and implement a plan for the restoration, rehabilitation, replacement, or acquisition of the equivalent of the injured natural resources under their trusteeship, including the loss of use and services from those resources from the time of injury until the time of restoration to baseline (the resource quality and conditions that would exist if the spill had not occurred) is complete.

The DWH Trustees are:

• U.S. Department of the Interior (DOI), as represented by the National Park Service, U.S. Fish and Wildlife Service, and Bureau of Land Management;

• National Oceanic and Atmospheric Administration (NOAA), on behalf of the U.S. Department of Commerce;

• U.S. Department of Agriculture (USDA);

• U.S. Environmental Protection Agency (EPA);

• State of Louisiana Coastal Protection and Restoration Authority (CPRA), Oil Spill Coordinator's Office, Department of Environmental Quality, Department of Wildlife and Fisheries, and Department of Natural Resources;

• State of Mississippi Department of Environmental Quality;

• State of Alabama Department of Conservation and Natural Resources and Geological Survey of Alabama;

• State of Florida Department of Environmental Protection and Fish and Wildlife Conservation Commission; and

• State of Texas: Texas Parks and Wildlife Department, Texas General Land Office, and Texas Commission on Environmental Quality.

The DWH Trustees reached and finalized a settlement of their natural resource damage claims with BP in an April 4, 2016, Consent Decree approved by the United States District Court for the Eastern District of Louisiana. Pursuant to that Consent Decree, restoration projects in the Regionwide Restoration Area are selected and implemented by the Regionwide TIG. The Regionwide TIG is composed of the DWH Trustees listed above.

Background

On September 24, 2019, the Regionwide TIG posted a public notice at http://www.gulfspillrestoration.noaa.gov requesting new or revised natural resource restoration project ideas for the Regionwide Restoration Area. The notice stated that the Regionwide TIG was seeking project ideas for the following Restoration Types: (1) Birds, (2) Marine Mammals, (3) Oysters; and (4) Sea Turtles. On July 1, 2020 the Regionwide TIG announced that it had initiated drafting of its first post settlement draft restoration plan including restoration projects for Birds, Marine Mammals, Oysters and Sea Turtles. Public comments received during the review period March 22 through May 6, 2021 (86 FR 15199) contributed to the completion of the RP/EA.

Overview of the Regionwide TIG RP/EA

The RP/EA is being released in accordance with OPA Natural Resource Damage Assessment regulations in the Code of Federal Regulations (CFR) at 15 CFR part 990, NEPA (42 U.S.C. 4321 et seq.), the Consent Decree,¹ and the Final Programmatic Damage Assessment and Restoration Plan/Programmatic Environmental Impact Statement. In the RP/EA, the Regionwide TIG analyzes 15 alternatives and selects eleven preferred alternatives for the Birds, Marine Mammals, Oysters, and Sea Turtles restoration types. The alternatives selected include the following:

¹ Consent Decree among Defendant BP Exploration & Production Inc. (“BPXP”), the United States of America, and the States of Alabama, Florida, Louisiana, Mississippi, and Texas entered in In re: Oil Spill by the Oil Rig “Deepwater Horizon” in the Gulf of Mexico, on April 20, 2010, MDL No. 2179 in the United States District Court for the Eastern District of Louisiana.

Birds

• Reducing Marine Debris Impacts on Birds and Sea Turtles (joint project with Sea Turtles Restoration Type)—$3,520,000;

• Conservation and Enhancement of Nesting and Foraging Habitat for Birds—$22,500,000;

○ Component 1: Chandeleur Islands, LA, $8,000,000;

○ Component 2: Pilot Town, AL, $6,500,000;

○ Component 3: San Antonio Bay Bird Island, TX $2,500,00;

○ Component 4: Matagorda Bay Bird Island (Chester Island), TX, $2,500,000;

○ Component 5: Round Island, MS, $3,000,000;

• Bird Nesting and Foraging Area Stewardship—$8,510,750.

Marine Mammals

• Voluntary Modifications to Commercial Shrimp Lazy Lines to Reduce Dolphin Entanglements—$3,179,088;

• Reducing Impacts to Dolphins from Hook-and-Line Gear and Provisioning through Fishery Surveys, Social Science, and Collaboration—$1,700,000;

• Enhance Marine Mammal Stranding Network Diagnostic Capabilities and Consistency across the Gulf of Mexico—$2,300,000.

Oysters

• Improving Resilience for Oysters by Linking Brood Reefs and Sink Reefs (Large-scale)—$35,819,974 (component cost breakdown is not yet defined);

○ Component 1: East Galveston Bay, TX;

○ Component 2: Biloxi Marsh, LA;

○ Component 3: Heron Bay, MS;

○ Component 4: Mid-lower Mobile Bay, AL;

○ Component 5: Suwanee Sound, FL.

Sea Turtles

• Pilot Implementation of Automatic Identification System in the GOM Inshore Shrimp Fishery to Inform Efforts to Reduce Sea Turtle Bycatch—$2,231,124;

• Restore and Enhance Sea Turtle Nest Productivity—$7,655,000;

• Reducing Sea Turtle Bycatch at Recreational Fishing Sites, $3,649,360;

• Reducing Marine Debris Impacts on Birds and Sea Turtles (joint project with Birds Restoration Type)—$3,520,000;

• Regionwide Enhancements to the Sea Turtle Stranding and Salvage Network and Enhanced Rehabilitation—$5,050,000;

○ Component 1: Enhancing Response, Coordination, and Preparedness in the Gulf of Mexico, $2,050,000;

○ Component 2: Texas Rehabilitation Facility, $3,000,000.

The Regionwide TIG has examined the injuries assessed by the DWH Trustees and evaluated restoration alternatives to address the injuries. In the RP/EA, the Regionwide TIG presents to the public its plan for providing partial compensation to the public for injured natural resources and ecological services in the Regionwide Restoration Area. The selected alternatives are intended to continue the process of using DWH restoration funding to restore natural resources injured or lost as a result of the Deepwater Horizon oil spill. The total estimated cost of the projects selected is approximately $99.6 million. Additional restoration planning for the Regionwide Restoration Area will continue.

Additional Access to Materials

You may request a CD of the RP/EA (see FOR FURTHER INFORMATION CONTACT above). Copies of the RP/EA are also available at the following locations:

Table 1—Repositories With Copies of the RP/EA
Repository | Address | City | State | Zip
Dauphin Island Sea Laboratory, Admin Building | 101 Bienville Blvd | Dauphin Island | AL | 36528
Thomas B. Norton Public Library | 221 W 19th Ave | Gulf Shores | AL | 36542
Alabama Department of Conservation and Natural Resources, State Lands Division, Coastal Section Office | 31115 Five Rivers Blvd | Spanish Fort | AL | 36527
Weeks Bay National Estuarine Research Reserve | 11300 U.S. Hwy. 98 | Fairhope | AL | 36532
Mobile Public Library, West Regional Library | 5555 Grelot Rd | Mobile | AL | 36606
Franklin County Public Library | 160 Hickory Dip | Eastpoint | FL | 32328
Okaloosa County Library | 185 Miracle Strip Pkwy. SE | Ft. Walton | FL | 32548
Panama City Beach Public Library | 125000 Hutchison Blvd | Panama City Beach | FL | 32407
Southwest Branch Library | 12248 Gulf Beach Hwy | Pensacola | FL | 32507
Wakulla County Library | 4330 Crawfordville Hwy | Crawfordville | FL | 32327
Walton County Library, Coastal Branch | 437 Greenway Trail | Santa Rosa Beach | FL | 32459
Santa Rosa County Clerk of Court, County Courthouse | 6865 Caroline St | Milton | FL | 32570
Bay County Public Library | 898 W 11th St | Panama City | FL | 32401
Gulf County Public Library | 110 Library Dr | Port St. Joe | FL | 32456
Jefferson R.J. Bailar Public Library | 375 S Water St | Monticello | FL | 32344
Taylor County Public Library | 403 N Washington St | Perry | FL | 32347
Dixie County Public Library | 16328 SE U.S. Hwy. 19 | Cross City | FL | 32628
Levy County Public Library | 7871 NE 90th St | Bronson | FL | 32621
Homosassa Public Library | 4100 S Grandmarch Ave | Homosassa | FL | 34446
Land O'Lakes Branch Library | 2818 Collier Pkwy | Land O' Lakes | FL | 34639
Pinellas Public Library | 1330 Cleveland St | Clearwater | FL | 33755
Temple Terrace Public Library | 202 Bullard Pkwy | Temple Terrace | FL | 33617
South Manatee Branch Library | 6081 26th St | West Bradenton | FL | 34207
Jacaranda Public Library | 4143 Woodmere Park Blvd | Venice | FL | 34293
Mid County Regional Library | 2050 Forrest Nelson Blvd | Port Charlotte | FL | 33952
Riverdale Branch Library | 2421 Buckingham Rd | Fort Myers | FL | 33905
St. Tammany Parish Library | 310 W 21st Ave | Covington | LA | 70433
Terrebonne Parish Library | 151 Library Dr | Houma | LA | 70360
New Orleans Public Library, Louisiana Division | 219 Loyola Ave | New Orleans | LA | 70112
East Baton Rouge Parish Library | 7711 Goodwood Blvd | Baton Rouge | LA | 70806
Jefferson Parish Library, East Bank Regional Library | 4747 W Napoleon Ave | Metairie | LA | 70001
Jefferson Parish Library, West Bank Regional Library | 2751 Manhattan Blvd | Harvey | LA | 70058
Plaquemines Parish Library | 8442 Hwy. 23 | Belle Chase | LA | 70037
St. Bernard Parish Library | 2600 Palmisano Blvd | Chalmette | LA | 70043
St. Martin Parish Library | 201 Porter St | Martinville | LA | 70582
Alex P. Allain Library | 206 Iberia St | Franklin | LA | 70538
Vermillion Parish Library | 405 E St. Victor St | Abbeville | LA | 70510
Lafourche Parish Public Library (formerly Martha Sowell Utley Memorial Library) | 314 St. Mary St | Thibodaux | LA | 70301
South Lafourche Public Library | 16241 E Main St | Cut Off | LA | 70345
Calcasieu Parish Public Library Central Branch | 301 W Claude St | Lake Charles | LA | 70605
Iberia Parish Library | 445 E Main St | New Iberia | LA | 70560
Mark Shirley, Louisiana State University AgCenter | 1105 W Port St | Abbeville | LA | 70510
Sandy Ha Nguyen, Coastal Communities Consulting | 925 Behrman Hwy., Suite 15 | Gretna | LA | 70056
Biloxi Public Library, Local History and Genealogy Department | 580 Howard Ave | Biloxi | MS | 39530
West Biloxi Public Library | 2047 Pass Rd | Biloxi | MS | 39531
Waveland Public Library | 333 Coleman Ave | Waveland | MS | 39576
Vancleave Public Library | 12604 Hwy. 57 | Vancleave | MS | 39565
Hancock County Library System | 312 Hwy. 90 | Bay St. Louis | MS | 39520
Gulfport Harrison County Library | 1708 25th Ave | Gulfport | MS | 39501
Pass Christian Public Library | 111 Hiern Ave | Pass Christian | MS | 39571
Orange Grove Branch Library | 12135 Old Hwy. 49 | Gulfport | MS | 39503
Kathleen McIlwain Public Library | 2100 Library Ln | Gautier | MS | 39553
Pascagoula Public Library | 3214 Pascagoula St | Pascagoula | MS | 39567
Ina Thompson Moss Point Library (formerly Moss Point Library) | 4119 Bellview | Moss Point | MS | 39563
Ocean Springs Municipal Library | 525 Dewey Ave | Ocean Springs | MS | 39564
Kiln Public Library | 17065 Hwy. 603 | Kiln | MS | 39556
Margaret Sherry Memorial Library | 2141 Popps Ferry Rd | Biloxi | MS | 39532
East Central Public Library | 21801 Slider Rd | Moss Point | MS | 39555
Jerry Lawrence Memorial Library (formerly D'Iberville Library) | 10391 AutoMall Pkwy | D'Iberville | MS | 39540
Mercy Housing & Human Development | 1135 Ford St | Gulfport | MS | 39507
Center for Environmental and Economic Justice | 336 Rodenberg Ave | Biloxi | MS | 39531
STEPS Coalition | 11975 Seaway Rd., Ste. A240 | Gulfport | MS | 39503
Gulf Islands National Seashore Visitors Center | 3500 Park Rd | Ocean Springs | MS | 39564
Mississippi Commercial Fisheries United | 6421 Beatline Road | Long Beach | MS | 39560
Jack K. Williams Library, Texas A&M University at Galveston | 200 Seawolf Pkwy., Bldg. 3010 | Galveston | TX | 77554
Port Arthur Public Library | 4615 9th Ave | Port Arthur | TX | 77672
Mary and Jeff Bell Library Texas A&M | 6300 Ocean Dr | Corpus Christi | TX | 78412
Rosenberg Library | 2310 Sealy St | Galveston | TX | 77550

Translation Opportunities

Vietnamese translated materials including the Executive Summary and project fact sheets are posted in the “News” section of the Regionwide TIG's website: http://www.gulfspillrestoration.noaa.gov/restoration-areas/regionwide.

Administrative Record

The documents comprising the Administrative Record for the RP/EA can be viewed electronically at http://www.doi.gov/deepwaterhorizon/adminrecord.

Authority

The authority of this action is the Oil Pollution Act of 1990 (33 U.S.C. 2701 et seq.) and its implementing Oil Pollution Act Natural Resource Damage Assessment regulations found at 15 CFR part 990 and the National Environmental Policy Act of 1969 (42 U.S.C. 4321 et seq.).

Dated: September 20, 2021.
Carrie Diane Robinson,
Director, Office of Habitat Conservation, National Marine Fisheries Service.

[FR Doc. 2021-20641 Filed 9-24-21; 8:45 am]

BILLING CODE 3510-22-P